DEPARTMENT OF TRANSPORTATION

Office of the Secretary

Aviation Proceedings, Agreements Filed the Week Ending November 10, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26297.

Date Filed: 11-7-2006.

Parties: Members of the International Air Transport Association.

Subject:

TC23 Africa—South East Asia

Expedited Resolution 002c

(Memo 0312)

Intended effective date: 1 November 2006.

Docket Number: OST-2006-26289.

Date Filed: 11-6-2006.

Parties: Members of the International Air Transport Association.

Subject:

Mail Vote 517—Resolution 010f

PTC3/23/31/123 Special Amending Resolution—Sri Lanka

(Memo 1364)

Intended effective date: 17 November 2006.

Renee V. Wright,
Program Manager, Docket Operations, Federal Register Liaison.

[FR Doc. E6-20232 Filed 11-28-06; 8:45 am]

BILLING CODE 4910- 9X-P